Proclamation 10723 of March 29, 2024

César Chávez Day, 2024

By the President of the United States of America

A Proclamation

Today, as we honor César Chávez's life and legacy, we recommit to fulfilling the fundamental vision of La Causa: to give every worker the dignity and respect they deserve and ensure everyone has a fair shot at the American Dream.

César Chávez defined extraordinary moral courage. He was a migrant farm worker who spent long, strenuous hours working in the fields. He and his fellow workers received unlivable wages and labored in unjust working conditions. Even then, a man of unyielding faith and an immovable spirit, Chávez saw every reason to pursue what he knew was the truth of this country: The people who put food on America's tables and sustain our Nation deserve their fair share.

Alongside legendary activist Dolores Huerta, he founded the United Farm Workers. Ever since beginning their work in 1962, this union has led legendary marches, strikes, and boycotts. Chávez himself knocked on doors for years and fasted for weeks on end to bring light to issues facing farm workers. Together, they made historic progress, like earning farm workers the right to collectively bargain and ensuring safe working conditions and better pay. As a leader, Chávez not only empowered tens of thousands of farm workers to make their voices heard, he also inspired an entire generation of Latino leaders to forge a better future for all of us.

I am proud to keep a bust of César Chávez in the Oval Office. It is a daily reminder of our shared commitment to America's workers and our labor unions. My dad used to say that a job is about a lot more than a paycheck—it is about dignity. But if the paycheck is insufficient and the working conditions are subpar, a job can never offer someone the dignity they deserve. That is why since day one of my Administration, I have been working to build an economy that works for everyone—one that grows from the middle out and the bottom up, not the top down. So far, the economy has created nearly 15 million jobs—one of the greatest job creation periods in our Nation's history. Unemployment has been below 4 percent for the longest stretch in 50 years. America's support for unions is higher today than at any time in nearly 60 years. All of this progress is proof that when America's unions do well, we all do well.

I am also proud to be the most pro-worker and pro-union President in American history. Since I took office, the Department of Labor has recovered over $21 million in back pay and damages, ensuring that nearly 26,000 farm workers received the wages they earned. My Administration proposed a new rule last year that would extend overtime pay to as many as 3.6 million workers, ensuring that they are compensated fairly for the hours they spend at work. I also signed into law the Butch Lewis Emergency Pension Plan Relief Act, which protects pensions for millions of union workers—one of the most significant achievements for union workers and retirees in over 50 years. The Department of Labor is also working to protect workers exposed to extreme heat, including conducting targeted inspections in industries with high incidences of heat-related illnesses. They published a rule that strengthens services to migrant and seasonal farm workers by increasing outreach to farm workers and requiring that outreach field visits involve conversations about farm workers' rights and protections.

Migrant workers can find helpful resources and more information about their employment-related rights in America at MigrantWorker.gov or Trabajadormigrante.gov. These websites have information about recruitment, working in America, returning home safely, and more.

I know that there is still work to be done to ensure that we are taking care of our workers. We need to finally provide undocumented farm workers a pathway to citizenship. That is why I continue to call on the Congress to pass the Farm Workforce Modernization Act. I also believe every worker in America should have the free and fair choice to join a union or organize and bargain collectively without employer intimidation or coercion. That is why I encouraged the Congress to pass the Protecting the Right to Organize Act. I remain steadfast in my call to ensure paid sick leave for every worker in America and to improve conditions for people who work on farms and ranches and across the food and agricultural industry.

César Chávez once said about the power of La Causa: “Once social change begins it cannot be reversed. You cannot uneducate the person who has learned to read. You cannot humiliate the person who feels pride. You cannot oppress the people who are not afraid anymore . . . you cannot stamp out a people's cause.” On this day, we recognize that César Chávez and his fellow farm workers made progress that can never be taken back. They fought for a sacred cause that continues to beat in the hearts of the American people: Every worker—no matter who they are, where they are from, or what they do—deserves dignity and respect.

NOW, THEREFORE, I, JOSEPH R. BIDEN JR., President of the United States of America, by virtue of the authority vested in me by the Constitution and the laws of the United States, do hereby proclaim March 31, 2024, as César Chávez Day. I call upon all Americans to observe this day as a day of service and learning with appropriate service, community, and education programs to honor César E. Chávez's enduring legacy.

IN WITNESS WHEREOF, I have hereunto set my hand this twenty-ninth day of March, in the year of our Lord two thousand twenty-four, and of the Independence of the United States of America the two hundred and forty-eighth.

[FR Doc. 2024-07196

Filed 4-2-24; 8:45 am]

Billing code 3395-F4-P